DEPARTMENT OF ENERGY

Federal Energy Regulatory Commission

[Docket No. RR06-3-001]

North American Electric Reliability Corporation; Notice of Technical Conference

February 21, 2007.

Take notice that on March 2, 2007, a technical conference will be held at the Federal Energy Regulatory Commission to discuss a rehearing request addressing the North American Electric Reliability Corporation's (NERC) business plan and budget as the Electric Reliability Organization (ERO). This technical conference was established in an Order on Rehearing and Establishing Technical Conference in this docket, issued February 15, 2007.¹ It will be held at the headquarters of the Federal Energy Regulatory Commission, 888 First Street, NE., Washington, DC from 9 a.m.-12 p.m. (EST).

¹ WECC, Pacific Gas and Electric Company and Southern California Edison Company jointly sought rehearing of FERC's October 24, 2006 order, North American Electric Reliability Corporation 117 FERC ¶ 61,091 (2006).

The technical conference will consist of a discussion between Commission staff and representatives of NERC and Western Electricity Coordinating Council (WECC). The primary question to be addressed is whether WECC's reliability coordinator activities should receive mandatory funding through the ERO.

WECC has specifically requested that $6.9 million be included in the ERO budget for its reliability coordinator activities. NERC and WECC will be asked to provide details about WECC's funding request and WECC's reliability coordination function. The details they will be asked to address include, but are not limited to: information about WECC's reliability coordinators' independence from users, owners and operators of the Bulk-Power System; details of ERO oversight; issues related to enforcement and non-compliance; billing and allocation; and WECC's plans for the future.

The conference is open for the public to attend. The conference will not be transcribed and telephone participation will not be available.

The Commission will accept written comments on the discussion at this technical conference no later than 5 p.m. Eastern Time on Monday, March 12, 2007.

Commission conferences are accessible under section 508 of the Rehabilitation Act of 1973. For accessibility accommodations please send an e-mail to accessibility@ferc.gov or call toll free 1-866-208-3372 (voice) or 202-208-1659 (TTY), or send a FAX to 202-208-2106 with the required accommodations.

For more information about this conference, please contact: Sarah McKinley, Office of External Affairs, Federal Energy Regulatory Commission, (202) 502-8004, sarah.mckinley@ferc.gov.

Magalie R. Salas,
Secretary.

[FR Doc. E7-3340 Filed 2-26-07; 8:45 am]

BILLING CODE 6717-01-P